DEPARTMENT OF JUSTICE

Notice of Lodging of Consent Decree Under the Comprehensive Environmental Response, Compensation, and Liability Act

Notice is hereby given that on January 25, 2007, a proposed Consent Decree in United States v. Orlyn Joyner, et al., Civil Action Number 3:05-CV-257-M-A, was lodged with the United States District Court for the Northern District of Mississippi.

In this action the United States sought, under Section 107 of the Comprehensive Environmental Response, Compensation, and Liability Act, 42 U.S.C. 9607, recovery of response costs incurred by the Environmental Protection Agency (“EPA”) in response to releases of hazardous substances at the Allied Electroplating Superfund Site located in Eupora, Webster County, Mississippi. Joyner's Die Casting & Plating, Inc. and Orlyn Joyner (“Defendants”) are paying $350,000, collectively. This settlement is based on the Defendants' limited ability to pay.

The Department of Justice will receive, for a period of thirty (30) days from the date of this publication, comments relating to the proposed settlement agreement. Comments should be addressed to the Assistant Attorney General, Environment and Natural Resources Division, P.O. Box 7611, U.S. Department of Justice, Washington, DC 20044-7611, and should refer to United States v. Orlyn Joyner, et al., DOJ Ref. #90-11-3-08713.

During the public comment period, the proposed settlement agreement may be examined on the following Department of Justice Web site: http://www.usdoj.gov/enrd/open.html. A copy of the proposed settlement agreement may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $5.50 (25 cents per page reproduction cost) payable to the U.S. Treasury, to obtain a copy of the Consent Decree.

Henry Friedman,
Assistant Section Chief, Environmental Enforcement Section, Environment and Natural Resources Division.

[FR Doc. 07-544 Filed 2-7-07; 8:45 am]

BILLING CODE 4410-15-M